DEPARTMENT OF HOMELAND SECURITY

Federal Emergency Management Agency

[Internal Agency Docket No. FEMA-1971-DR; Docket ID FEMA-2011-0001]

Alabama; Amendment No. 15 to Notice of a Major Disaster Declaration

AGENCY: Federal Emergency Management Agency, DHS.

ACTION: Notice.

SUMMARY: This notice amends the notice of a major disaster for the State of Alabama (FEMA-1971-DR), dated April 28, 2011, and related determinations.

DATES: Effective Date: May 25, 2011.

FOR FURTHER INFORMATION CONTACT: Tod Wells, Recovery Directorate, Federal Emergency Management Agency, 500 C Street, SW., Washington, DC 20472, (202) 646-3834.

SUPPLEMENTARY INFORMATION: Notice is hereby given that, on May 25, 2011, the President amended the cost-sharing arrangements regarding Federal funds provided under the authority of the Robert T. Stafford Disaster Relief and Emergency Assistance Act, 42 U.S.C. 5121 et seq. (the “Stafford Act”), as follows:

A pilot project at 90 percent Federal cost share for debris removal, including direct Federal assistance, for those areas within counties designated for Public Assistance that are within, or immediately adjacent to, areas of “extensive” or “catastrophic” damage as determined by the Federal Coordinating Officer applying objective standards used by the National Geospatial-Intelligence Agency. This cost-share adjustment is authorized beginning April 28, 2011, through July 12, 2011. FEMA and the State of Alabama shall continue to pursue any applicable private insurance payments for debris removal to reimburse Federal costs to the extent permitted by law.

This adjustment to State and local cost sharing applies only to Public Assistance costs, including direct Federal assistance, for eligible debris removal under the pilot project. All other Public Assistance costs will continue to be reimbursed at 75 percent of total eligible costs. The law specifically prohibits a similar adjustment for funds provided to States for Other Needs Assistance (Section 408) and the Hazard Mitigation Grant Program (Section 404). These funds will continue to be reimbursed at 75 percent of total eligible costs.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households in Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.)

June 6, 2011.
W. Craig Fugate,
Administrator, Federal Emergency Management Agency.

[FR Doc. 2011-14578 Filed 6-10-11; 8:45 am]

BILLING CODE 9111-23-P